ADVISORY COUNCIL ON HISTORIC PRESERVATION

Advisory Council on Historic Preservation.

Notice of Meeting

SUMMARY: Notice is hereby given that the Advisory Council on Historic Preservation (ACHP) will meet on Friday, August 6, 2004. The meeting will be held at the Grand Casino Mille Lacs, 777 Grand Avenue, Onamia, Minnesota, beginning at 9 a.m.

The ACHP was established by the National Historic Preservation Act of 1966 (16 U.S.C. 470 et seq.) to advise the President and the Congress on matters relating to historic preservation and to common upon Federal, federally assisted, and federally licensed undertakings having an effect upon properties listed in or eligible for inclusion in the National Register of Historic Places. The ACHP's members are the Architect of the Capitol; the Secretaries of the Interior, Agriculture, Defense, and Transportation; the Administrators of the Environmental Protection Agency and General Services Administration; the Chairman of the National Trust for Historic Preservation; the President of the National Conference of State Historic Preservation Officers; a Governor; a Mayor; a Native Hawaiian; and eight non-Federal members appointed by the President.

The agenda for the meeting includes the following:

I. Chairman's Welcome
II. Preserve America Program Development
A. Preserve America 2005 Presidential Awards
B. Preserve America Communities
C. Preserve America History Teacher Awards
D. Preserve America Grants
III. Preserve America Executive Order Implementation
A. Development of Federal Agency Section 3 Reports
IV. Report of the Executive Committee
A. Revision of Section 106 Regulations
B. ACHP FY 2006 Budget Request
V. Native American Issues Discussion
A. Report of Native American Advisory Group
B. General Discussion
VI. Report of the Preservation Initiatives Committee
A. Heritage Tourism Initiatives
B. National Heritage Areas Policy Legislation
VII. Report of the Federal Agency Programs Committee
A. Interstate Highway System Programmatic Agreement
B. FCC Cell Tower Programmatic Agreement
C. Section 106 Training Course
D. Section 106 Cases
VIII. Report of the Communications, Education, and Outreach Committee
A. Preserve America Outreach and Events Coordination
B. Recent Preserve America Events
IX. Report of the Department of Defense Task Force
X. Report of the Archaeology Task Force
XI. Chairman's Report
A. ACHP Alumni Foundation
B. Legislative Issues
1. ACHP Reauthorization Legislation
2. Surface Transportation Reauthorization Legislation
3. Department of Veterans Affairs “CARES” Initiative
XII. Executive Director's Report
XIII. New Business
XIV. Adjourn

Note: The meetings of the ACHP are open to the public. If you need special accommodations due to a disability, please contact the Advisory Council on Historic Preservation, 1100 Pennsylvania Ave., NW., Room 809, Washington, DC, 202-606-8503, at least seven (7) days prior to the meeting.

FOR FURTHER INFORMATION CONTACT: Additional information concerning the meeting is available from the Executive Director, Advisory Council on Historic Preservation, 1100 Pennsylvania Avenue, NW., #809, Washington, DC 20004.

Dated: July 26, 2004,
John M. Fowler,
Executive Director.

[FR Doc. 04-17351 Filed 7-29-04; 8:45 am]

BILLING CODE 4310-10-M